COMMISSION ON CIVIL RIGHTS

Agenda and Notice of Public Meeting of the Vermont Advisory Committee

Notice is hereby given, pursuant to the provisions of the rules and regulations of the U.S. Commission on Civil Rights that a meeting of the Vermont Advisory Committee to the Commission will convene at 11:00 a.m. and adjourn at 3:00 p.m. on April 2, 2001, at the Conference Room One, Burlington International Airport, Airport Drive, South Burlington, Vermont 05403. The purpose of the meeting is to discuss future coordination with educational leaders, and plan future activities.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, February 26, 2001.
Edward A. Hailes, Jr.,
General Counsel.

[FR Doc. 01-5123 Filed 3-1-01; 8:45 am]

BILLING CODE 6335-01-P